DEPARTMENT OF EDUCATION

National Assessment Governing Board

Meeting

AGENCY: National Assessment Governing Board, Department of Education.

ACTION: Notice; Extension of Public Comment Period.

SUMMARY: The National Assessment Governing Board (Governing Board) published a document in the Federal Register Volume 86, No. 131, pages 46321-46322 (2 pages) FR Doc. 2021-17676 filed on August 18, 2021, inviting public comment on the Science Assessment Framework for the 2028 National Assessment of Educational Progress (NAEP). Public and private parties and organizations were invited to provide written comments and recommendations relative to the current Science Framework, adopted in 2005. Comments were to be submitted via email to nagb@ed.gov with the email subject header NAEP Science Framework no later than 5:00 p.m. Eastern Time on Thursday, September 30, 2021.

The public comment period is hereby extended. Comments shall be submitted to nagb@ed.gov no later than 5:00 p.m. Eastern Time on October 15, 2021 with the email subject header NAEP Science Framework.

All responses will be taken into consideration before finalizing the recommendations for updating the NAEP Science Assessment Framework. Once finalized, recommendations will be used to guide a framework update process, if an update is needed for the 2028 NAEP Science Assessment. Additional information on the Governing Board's work in developing NAEP Frameworks and Specifications can be found at https://www.nagb.gov/naep-frameworks/frameworksoverview.html.

FOR FURTHER INFORMATION CONTACT: Munira Mwalimu at (202) 357-6906.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access Department of Education documents published in the Federal Register using the search functionality at www.federalregister.gov. Specifically, through the advanced search feature at this site, you can limit your search to documents published by the Department.

Authority: Pub. L. 107-279, Title III—National Assessment of Educational Progress § 301.

Lesley A. Muldoon,
Executive Director, National Assessment Governing Board (NAGB), U.S. Department of Education.

[FR Doc. 2021-21857 Filed 10-5-21; 8:45 am]

BILLING CODE 4000-01-P